DEPARTMENT OF THE INTERIOR

National Park Service

Notice of Intent to Repatriate a Cultural Item: Alaska State Museum, Juneau, AK

AGENCY: National Park Service, Interior.

ACTION: Notice.

Notice is here given in accordance with the Native American Graves Protection and Repatriation Act (NAGPRA), 25 U.S.C. 3005, of the intent to repatriate a cultural item in the possession of the Alaska State Museum, Juneau, AK, which meets the definition of “object of cultural patrimony” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The one cultural item is the Woodzixéedi Gooch Naazein Kudás' or Multiplying Wolf Tunic (ASM catalogue number II-B-1356). The tunic is woven in the Chilkat technique, made by an unknown weaver in the style common in the late 19th century. The one-piece, sleeveless tunic is worn draped over the shoulders and over other clothing by both men and women. It has a figurative design of wolves woven on the front and geometric designs on the back. One side of the tunic is permanently closed, while the other side closes with leather ties. The tunic is hand woven from cedar bark, mountain goat wool, and commercial wool, and the design figures are dyed black, blue, and yellow, on a natural white background.

The “multiplying wolf” design depicted on the tunic is a primary crest of the Wolf House of the Kaagwaantaan clan of Sitka, AK. The ceremonial use of the tunic by members of the Wolf House is documented in photos from the late 19th century to early 20th century. Several images show the tunic being worn by Jake Yarquan (Yaak waan), a leader of the Wolf House who was most likely the caretaker of the tunic. Following Mr. Yarquan's death, the tunic was purchased from his widow, Lily Yarkwan, by the Historical Library and Museum Commission, and donated to the Alaska Historical Library and Museum, Territory of Alaska (now known as the Alaska State Museum).

Under Tlingit law, the tunic is considered at.oow of the Wolf House of the Sitka Kaagwaantaan, and is by definition the property of the group. Based on Tlingit law, the tunic is an object of cultural patrimony and has ongoing cultural importance to the clan. While at.oow is cared for by a clan leader it remains communal property. In this case, the tunic was alienated by the widow of the caretaker, Lily Yarkwan, who belonged to another clan. According to museum records, Mrs. Yarkwan presented herself as legal owner of the tunic to museum officials, who subsequently purchased it in good faith. There is no evidence that the Wolf House itself was directly involved in the alienation or that the transaction was handled in accordance with Tlingit law.

The Alaska State Museum has received claims for this object by the Central Council Tlingit & Haida Indian Tribes (on behalf of Mr. Andrew Gamble, a leader of the Wolf House), and by the Sitka Tribe of Alaska (on behalf of Mr. Herman Kitka, a clan leader of the Wolf House). During consultation with the tribes and clan officials, the parties presented similar information on the details, meaning, and history of the tunic, as well as traditional Tlingit law, but differed regarding the present leadership of the Wolf House. All parties agreed that the tunic is an object of cultural patrimony and was alienated without the consent of the Wolf House.

Officials of the Alaska State Museum have determined that, pursuant to 25 U.S.C. 3001 (3)(D), the tunic has ongoing historical, traditional, or cultural importance central to the Native American group or culture itself, rather than property owned by an individual. Officials of the Alaska State Museum also have determined that, pursuant to 25 U.S.C. 3001 (13), the museum does not have right of possession to the object of cultural patrimony. Lastly, officials of the Alaska State Museum have determined that, pursuant to 25 U.S.C. 3001 (2), there is a relationship of shared group identity that can be reasonably traced between the object of cultural patrimony and the Central Council of the Tlingit & Haida Indian Tribes and Sitka Tribe of Alaska, both acting on behalf of leaders of the Wolf House of the Sitka Kaagwaantaan clan.

Representatives of any other Indian tribe that believes itself to be culturally affiliated with the object of cultural patrimony should contact Mr. Bruce Kato, Chief Curator, Alaska State Museum, 395 Whittier Street, Juneau, AK 99801-1718, telephone (907) 465-2901, before March 26, 2008. Repatriation of the object of cultural patrimony to the Central Council of the Tlingit & Haida Indian Tribes and/or Sitka Tribe of Alaska, on behalf of the Wolf House of the Sitka Kaagwaantaan clan, may proceed after that date if no additional claimants come forward.

Dated: January 22, 2008
Sherry Hutt,
Manager, National NAGPRA Program.

[FR Doc. E8-3457 Filed 2-22-08; 8:45 am]

BILLING CODE 4312-50-S